DEPARTMENT OF DEFENSE

Department of the Army, Corps of Engineers

Availability of the Draft Environmental Impact Statement for the Lower Bois d'Arc Creek Reservoir Project, Fannin County, TX

AGENCY: Department of the Army, U.S. Army Corps of Engineers, DoD.

ACTION: Notice of Availability.

SUMMARY: The U.S. Army Corps of Engineers (USACE) Tulsa District has prepared a Draft Environmental Impact Statement (EIS) to analyze the direct, indirect and cumulative effects of the construction and operation of the proposed Lower Bois d'Arc Creek Reservoir (LBCR) and related actions proposed by the North Texas Municipal Water District (NTMWD) in Fannin County, TX. The Proposed Action is a regional water supply project intended to provide up to 175,000 acre-feet/year (AFY), with an estimated firm yield of 126,200 AFY, of new water for NTMWD's member cities and direct customers in all or portions of nine counties in northern Texas—Collin, Dallas, Denton, Fannin, Hopkins, Hunt, Kaufman, Rains and Rockwall. Construction of the reservoir and related facilities would result in permanent impacts to approximately 6,180 acres of wetlands and 651,024 linear feet of streams. This action requires authorization from the USACE under Section 404 of the Clean Water Act. The Section 404 permit applicant is the NTMWD.

The Draft EIS was prepared in accordance with the National Environmental Policy Act (NEPA) of 1969, as amended, and the USACE's regulations for NEPA implementation (33 Code of Federal Regulations [CFR] parts 230 and 325, Appendices B and C). The USACE, Tulsa District, Regulatory Branch is the lead federal agency responsible for the Draft EIS and information contained in the EIS serves as the basis for a decision whether or not to issue a Section 404 permit. It also provides information for Federal, state and local agencies having jurisdictional responsibility for affected resources.

DATES: Written comments on the Draft EIS will be accepted on or after February 20, 2015 until April 21, 2015. Oral and/or written comments may also be presented at the Public Meeting to be held at 6 p.m. on Tuesday, March 24, 2015 at the Fannin County Multi-Purpose Complex, FM 87, 700 Texas 56, Bonham, TX 75418.

ADDRESSES: Send written comments regarding the Proposed Action and Draft EIS to Andrew R. Commer, USACE, Tulsa District Regulatory Office, 1645 S 101 E Avenue, Tulsa, OK 74128-4609, or via email: ceswt-ro@usace.army.mil. Requests to be placed on or removed from the mailing list should also be sent to this address.

FOR FURTHER INFORMATION CONTACT: Andrew R. Commer, U.S. Army Corps of Engineers, Tulsa District, Regulatory Office, at 918-669-7400.

SUPPLEMENTARY INFORMATION: The purpose of the Proposed Action is to provide additional firm annual yield to NTMWD's member cities and direct customers to address anticipated water demands associated with projected growth in the cities and suburbs in the NTMWD service area northeast of Dallas.

The purpose of the Draft EIS is to provide decision-makers and the public with information pertaining to the Proposed Action and alternatives, and to disclose environmental impacts and identify mitigation measures to reduce impacts. NTMWD proposes to build the LBCR with a total storage capacity of approximately 367,609 AF. A dam approximately 10,400 feet (about two miles) long and up to 90 feet high would be constructed, and much of the reservoir footprint would be cleared of trees and built structures. NTMWD also proposes to construct several related facilities or connected actions. These include a raw water intake pump station and electrical substation at the reservoir site, as well as a 90-96 inch diameter buried pipeline to carry raw water from the new reservoir approximately 35 miles in a southwesterly direction to a new water treatment plant and terminal storage reservoir that would be located west of the City of Leonard, also in Fannin County. A number of rural roads within the footprint and in the vicinity of the proposed reservoir would have to be closed or relocated; the most significant of these is FM 1396, which would be relocated to cross the reservoir in a different alignment on an entirely new bridge that would need to be constructed.

An aquatic resources mitigation plan has been prepared by the applicant to comply with the federal policy of “no overall net loss of wetlands” and to provide compensatory mitigation, to the extent practicable, for impacts to other waters of the U.S. that would be impacted by construction of the proposed reservoir. NTMWD has purchased a 14,960-acre parcel of land known as the Riverby Ranch, which borders the Red River. This working ranch is located downstream of the proposed project within both the same watershed (Bois d'Arc Creek) and the same county (Fannin). NTMWD acquired the Riverby Ranch specifically because its biophysical features have the potential to provide appropriate mitigation for the proposed project. Additional mitigation would be provided within the proposed reservoir itself and on Bois d'Arc Creek downstream of the reservoir as a result of an operations plan and flow regime established in consultation with the Texas Commission on Environmental Quality (TCEQ), and stipulated in the Draft Water Right Permit issued by TCEQ to NTMWD.

The U.S. Environmental Protection Agency Region VI, U.S. Forest Service, U.S. Fish and Wildlife Service, and the Texas Parks and Wildlife Department (TPWD) participated as cooperating agencies in the formulation of the Draft EIS.

Copies of the Draft EIS will be available for review at:

1. Bonham Public Library, 305 East 5th Street, Bonham, TX 75418; (903) 583-3128.

2. Sam Rayburn Library, 800 West Sam Rayburn Drive, Bonham, TX 75418; (903) 583-2455.

3. Bertha Voyer Memorial Library, 500 6th Street, Honey Grove, TX 75446; (903)-378-2206.

4. Leonard Public Library, 102 South Main Street, Leonard, TX 75452; (903) 587-2391.

5. North Texas Municipal Water District headquarters, 505 East Brown Street, Wylie, TX 75098.

6. Army Corps of Engineers, Tulsa District, Regulatory Office, 1645 S 101 E Avenue, Tulsa, OK 74128-4609.

Electronic copies of the Draft EIS may be obtained from the Corps' Tulsa District Regulatory Office or its Web site at http://www.swt.usace.army.mil/Missions/Regulatory/PublicNotices/tabid/4955/Year/2015/Default.aspx.

Andrew R. Commer,
Chief, Regulatory Office, Tulsa District.

[FR Doc. 2015-03622 Filed 2-20-15; 8:45 am]

BILLING CODE 3720-58-P